DEPARTMENT OF TRANSPORTATION

Federal Aviation Administration

[Docket No. FAA-2001-10478; Notice No. 01-10]

RIN 2120-AH45

Proposed Guidance for the Use of Binding Arbitration Under the Administrative Dispute Resolution Act of 1996

AGENCY: Federal Aviation Administration (FAA), DOT.

ACTION: Notice of proposed guidance and request for comments.

SUMMARY: The Office of Dispute Resolution for Acquisition (ODAR) of the FAA, a modal administration of the United States Department of Transportation, proposes to use binding arbitration among other alternative dispute resolution (ADR) techniques for purposes of resolving bid protests and contract disputes relating to procurements and contracts under the FAA Acquisition Management System. The Guidance, which is set forth in full on the Internet at http://www.faa.gov/agc/guidnce.htm, was developed pursuant to the Administrative Dispute Resolution Act (ADRA) of 1996, Pub. L. 104-320 (October 19, 1996), 5 U.S.C. 571-583. In accordance with Section 575 of the ADRA, the FAA has submitted the Guidance to the Attorney General for consultation. The Attorney General has informed the FAA that he concurs in the Guidance.

DATES: Comments must be received on or before September 26, 2001.

ADDRESSES: Comments on the Guidance may be delivered, mailed, or sent by facsimile to the FAA Office of Dispute Resolution for Acquisition, AGC-70, Room 8332, 400 7th Street, SW., Washington, DC 20590, facsimile number (202) 366-7400. Comments may also be submitted electronically to the following Internet address: marie.collins@faa.gov. Comments may be examined in Room 8332, between 10:00 a.m. and 4:00 p.m., weekdays except federal holidays.

FOR FURTHER INFORMATION CONTACT: Marie A. Collins, Dispute Resolution Office, FAA Office of Dispute Resolution for Acquisition, AGC-70, Room 8332, Federal Aviation Administration, 400 7th Street, SW., Washington, DC 20590, telephone number (202) 366-6400.

SUPPLEMENTARY INFORMATION:

Comments Invited

Interested persons are invited to participate in the finalization of the Guidance by submitting such written comments, views, or arguments as they may desire. All comments received will be available for public inspection before and after the comment closing date. All comments received on or before the closing date will be considered by the FAA. Late-filed comments will be considered to the extent practicable. The Guidance referenced in this notice may be changed in light of the comments received.

Availability of the Guidance

This notice and request for comments merely identifies the Guidance. A complete copy of the Guidance may be downloaded from the Internet at the FAA Website at http://www.faa.gov/agc/guidnce.htm, or may be obtained from the ODRA directly.

Background

In the ADRA of 1996, Congress authorizes federal agencies to utilize binding arbitration to resolve administrative disputes, provided that conditions specified in the ADRA are satisfied. Among other things, the ADRA requires that interested agencies develop and issue guidance on the appropriate use of arbitration. In accordance with Section 575 of the ADRA, the FAA Guidance for use of binding arbitration to resolve government contract disputes was developed in consultation with the Attorney General. The FAA has been informed by the Department of Justice that the Attorney General concurs in the Guidance.

The Guidance satisfies the requirements regarding binding arbitration specified by the ADRA of 1996; and addresses use of binding arbitration in a manner consistent with the FAA dispute resolution process and the ODRA's procedural rules, 14 CFR 17.

Issued in Washington, DC, on August 22, 2001.
David G. Leitch,
Chief Counsel.

[FR Doc. 01-21617 Filed 8-24-01; 8:45 am]

BILLING CODE 4910-13-M